DEPARTMENT OF VETERANS AFFAIRS

Privacy Act of 1974; System of Records

AGENCY: Department of Veterans Affairs.

ACTION: Notice of Amendment to System of Records.

SUMMARY: As required by the Privacy Act of 1974 (5 U.S.C. 552a(e)(4)), notice is hereby given that the Department of Veterans Affairs (VA) is amending a system of records in its inventory titled “Supervised Fiduciary/Beneficiary and General Investigative Records—VA” (37VA27). VA is amending the system of records by updating it to reflect current program terminology, policies, and procedures, and revising the name, purpose(s), system manager and address, categories of individuals, types of information, and routine uses of records maintained in the system. VA is republishing the system notice in its entirety.

DATES: Comments on this amended system of records must be received no later than August 18, 2014. If no public comment is received during the period allowed for comment or unless otherwise published in the Federal Register by VA, the amended system of records will become effective on August 18, 2014.

ADDRESSES: Written comments concerning this amended system of records may be submitted through www.Regulations.gov; by mail or hand-delivery to the Director, Regulation Policy and Management (02REG), Department of Veterans Affairs, 810 Vermont Ave. NW., Room 1068, Washington, DC 20420; or by fax to (202) 273-9026. (This is not a toll free number.) Copies of comments received will be available for public inspection in the Office of Regulation Policy and Management, Room 1063B, between the hours of 8:00 a.m. and 4:30 p.m., Monday through Friday (except holidays). Please call (202) 461-4902 for an appointment. (This is not a toll free number.) In addition, during the comment period, comments may be viewed online through the Federal Docket Management System (FDMS) at www.Regulations.gov.

FOR FURTHER INFORMATION CONTACT: Mr. Chad Phillips, Program Analyst, Pension and Fiduciary Service, Veterans Benefits Administration (VBA), Department of Veterans Affairs, 810 Vermont Avenue NW., Washington, DC 20420, or chad.phillips@va.gov. Mr. Phillips may also be reached by telephone at (202) 632-8863. (This is not a toll free number.)

SUPPLEMENTARY INFORMATION: This system of records contains guidelines for the administration of benefits in regards to beneficiaries who have been deemed unable to manage their financial affairs by VA or a court. VA is amending this system of records to change the system name and location, update storage methods, and add categories of individuals covered by the system and categories of records maintained in the system. VA is also amending the routine uses of records maintained in the system, including the categories of users and the purposes of such uses, as well as the record sources to protect the confidentiality and govern the release of VA records subject to 38 U.S.C. 5701, which permits disclosure in accordance with valid routine uses.

VA is changing the system's name to reflect our retirement of the legacy system, Fiduciary Beneficiary System, and deployment of the current system, Beneficiary Fiduciary Field System. VA is also updating the location of the system to reflect the Veterans Benefits Administration's consolidation of fiduciary work from 56 regional offices to 6 fiduciary hubs. Further, VA is revising the storage method for records to highlight the transfer of program documentation from paper records stored at individual regional offices to electronic records stored in a repository.

VA is amending the categories of individuals covered by the system, to clarify that the system pertains to records regarding current, former, and prospective VA-appointed fiduciaries. VA is also adding a category for those individuals designated as a beneficiary's preference for appointment by VA, regardless of whether VA is able to appoint the individual.

VA is amending the categories of records in the system to update the language used to describe the categories and records consistent with current fiduciary program policies and procedures. The amendments add category numbers 7 and 8, which pertain, respectively, to individuals who previously served as a VA fiduciary and individuals who VA considered for appointment as a VA fiduciary but who were not selected for service. Historical information regarding past fiduciaries and their performance provides VA the ability to ensure that only the best qualified fiduciaries serve our beneficiary population and that VA does not appoint a fiduciary that VA had previously removed. Including information related to the qualification and appointment of individuals seeking to serve as fiduciary is also an important addition. It will allow VA to share with beneficiaries, prospective fiduciaries, and other qualified individuals the reasons for selection or non-selection of an individual as fiduciary for a particular beneficiary.

VA is amending its routine uses to add a new number 22, which authorizes disclosure of information to the beneficiary regarding VA's reasons for selection or non-selection of an individual as fiduciary for a beneficiary. An April 2011 court decision held that a beneficiary may appeal VA's fiduciary appointment decisions to the Board of Veterans' Appeals. Accordingly, VA must inform beneficiaries of the reasons for its appointment decisions, to include, in some cases, the reasons why VA decided not to appoint the individual designated by the beneficiary as his or her preference. This information may include the results of a criminal background check, credit history check, ability to obtain a surety bond, or any other information regarding a prospective fiduciary that is relevant to VA's best-interest determination.

VA is further amending routine uses to add a new number 23. It authorizes VA to disclose information about allegations, investigations, and determinations of misuse by a fiduciary to a beneficiary. VA intends to allow a beneficiary to appeal VA's decisions regarding misuse to include the misuse determination, any request for reconsideration submitted by the fiduciary, and negligence determinations that affect the reissuance of benefits to the beneficiary or his or her current fiduciary. This information could include personal information about the fiduciary relevant to the possible misuse of a beneficiary's funds.

VA is also expanding the record source categories to include information from individuals who previously served as fiduciaries, persons considered by VA for appointment as a fiduciary but who were not selected, and additional categories of VA personnel. A correction is also being made to reflect a VA position title change from “estate analyst” to “legal instruments examiner.”

These additions and amendments will greatly enhance VA's ability to manage program records and, in turn, better meet the needs of this beneficiary population.

Signing Authority

The Acting Secretary of Veterans Affairs, or designee, approved this document and authorized the undersigned to sign and submit the document to the Office of the Federal Register for publication electronically as an official document of the Department of Veterans Affairs. Jose D. Riojas, Chief of Staff, Department of Veteran Affairs, approved this document on June 26, 2014, for publication.

Dated: July 14, 2014.
Robert C. McFetridge,
Director, Office of Regulation Policy and Management, Office of the General Counsel, Department of Veterans Affairs.

37VA27

SYSTEM NAME:

Beneficiary Fiduciary Field System (BFFS)-VA.

SYSTEM LOCATION:

Records are maintained at the Department of Veterans Affairs (VA) fiduciary hub that has jurisdiction over the geographical area in which the VA beneficiary resides, and the Austin Data Processing Center in Austin, Texas. The BFFS system and associated electronic records are maintained at a private Federal hosting facility. Addresses of VA fiduciary hubs and the Data Processing Center are listed in VA Appendix 1.

Documents and information pertaining to program issues and categories of individuals covered by the system are stored in an electronic record repository.

CATEGORIES OF INDIVIDUALS COVERED BY THE SYSTEM:

The following categories of individuals are covered by this system:

1. VA beneficiaries (i.e., a veteran or a non-veteran adult who receives VA monetary benefits, lacks the mental capacity to manage his or her own financial affairs regarding disbursement of funds without limitation, and is either rated incapable of managing his or her financial affairs or adjudged to be under legal disability by a court of competent jurisdiction; or a child who has not reached majority under State law and receives VA monetary benefits).

2. Current, former, and prospective VA-appointed fiduciaries (i.e., a VA Federal fiduciary appointed by VA to serve as fiduciary of VA monetary benefits for a VA beneficiary determined unable to manage his or her financial affairs; or a person or legal entity appointed by a State or foreign court to supervise the person and/or payee of a VA beneficiary adjudged to be under a legal disability). The statutory title of a court-appointed fiduciary may vary from State to State.

3. A chief officer of a hospital, domiciliary, institutional or nursing home care facility where a beneficiary, who VA has determined is unable to manage his or her financial affairs, is receiving care and who has contracted to use the veteran's VA funds in a specific manner.

4. Supervised Direct Payment (SDP) (i.e., an adult beneficiary in the fiduciary program who manages his or her VA benefits with limited and temporary supervision based upon a field examination and subsequent to determination by the hub manager pertaining to benefits eligibility and other issues; or, to develop evidence for further investigations of potential criminal issues).

5. Physicians named in treatment records and financial managers or attorneys who help disperse funds for VA beneficiaries deemed unable to manage those funds.

CATEGORIES OF RECORDS IN THE SYSTEM:

The records in the electronic fiduciary folder are the primary records in this system. Social Security Administration (SSA) derived records, as needed, are also contained in this system. These records may contain the following types of information:

1. Field examination reports (i.e., VA Form 27-4716a or 27-3190, Field Examination Request and Report, which contains a VA beneficiary's name, address, Social Security number, VA file number, an assessment of the beneficiary's ability to handle VA and non-VA funds, description of family relationships, economic and social adjustment information, information on the beneficiary's activities, and the name, address, and assessment of the performance of a VA-appointed fiduciary).

2. Correspondence from and to a VA beneficiary, a VA-appointed fiduciary, and other interested third parties.

3. Medical records (i.e., medical and social work reports generated in VA, State, local, or private medical treatment facilities or private physicians' offices indicating the medical history of a VA beneficiary, including diagnosis, treatment and nature of any physical or mental disability).

4. Financial records (e.g., accountings regarding a fiduciary's management of a beneficiary's income, investments, and accumulated funds, amount of monthly benefits received, amounts charged for fees by the fiduciary, certificates of balance on accounts from financial institutions, and withdrawal agreements between VA, financial institutions, and the fiduciary).

5. Court documents (e.g., petitions, court orders, letters of guardianship, inventories of assets, and depositions).

6. Agreements to serve as a VA Federal fiduciary.

7. Information pertaining to individuals, including companies and other entities, who previously served as a VA-appointed fiduciary.

8. Information related to the qualification and appointment of individuals, including companies and other entities, considered by VA for appointment as a fiduciary.

9. Photographs of people (beneficiaries who VA has determined are unable to manage their financial affairs, fiduciaries, and other persons who are the subject of a VA investigation), places, and things.

10. Fingerprint records.

11. SSA records containing information about the type and amount of SSA benefits paid to beneficiaries who are eligible to receive benefits under both VA and SSA eligibility criteria, records containing information developed by SSA about SSA beneficiaries who are in need of representative payees, accountings provided to SSA, and records containing information about SSA representative payees. Also contained in this system are copies of non-fiduciary program investigation records. These records are reports of field examinations or investigations performed at the request of any organizational element of VA about any subject under the jurisdiction of VA other than a fiduciary issue. In addition to copies of the reports, records may include copies of exhibits or attachments such as photographs of people, places, and things; sworn statements; legal documents involving loan guaranty transactions, bankruptcy, and debts owed to VA; accident reports; birth, death, and divorce records; certification of search for vital statistics documents; beneficiary's financial statements and tax records; immigration information; and newspaper clippings.

AUTHORITY FOR MAINTENANCE OF THE SYSTEM:

Section 501(a), (b), and chapter 55 of Title 38, United States Code.

PURPOSE(S):

This system will collect a limited amount of personally identifiable information to provide authorized individuals access to or interaction with VA. The information collected by the system will include: Name, mailing address, Social Security number, medical record information, and financial information. The system also enables VA to maintain the name, mailing address, Social Security or tax identification number, and credit and criminal histories of individuals who are currently VA-appointed fiduciaries, who previously served as VA-appointed fiduciaries, or who were considered for service as VA-appointed fiduciaries, for the purpose of qualifying the individual for service as a fiduciary and providing oversight of fiduciaries. See the statutory provisions cited in “Authority for maintenance of the system.” VA gathers or creates these records in order to enable it to administer these statutory benefits programs.

ROUTINE USES OF RECORDS MAINTAINED IN THE SYSTEM, INCLUDING CATEGORIES OF USERS AND THE PURPOSES OF SUCH USES:

1. The record of an individual who is covered by this system may be disclosed to a member of Congress or staff person acting for the member when the member or staff person requests the record on behalf of and at the request of that individual.

2. Any information in this system, except for the name and address of a veteran, which is relevant to a suspected violation or reasonably imminent violation of law, whether civil, criminal, or regulatory in nature and whether arising by general or program statute or by regulation, rule, or order issued pursuant thereto, may be disclosed to a Federal, State, local, or foreign agency charged with the responsibility of investigating or prosecuting such violation, or charged with enforcing or implementing the statute, rule, regulation, or order issued pursuant thereto, at the initiative of VA.

3. The name and address of a veteran, which is relevant to a suspected violation or reasonably imminent violation of law, whether civil, criminal, or regulatory in nature and whether arising by general or program statute or by regulation, rule, or order issued pursuant thereto, may be disclosed to a Federal agency charged with the responsibility of investigating or prosecuting such violation, or charged with enforcing or implementing the statute, regulation, rule, or order issued pursuant thereto, in response to its official request, when that information is for law enforcement investigation purposes, and such request is in writing and otherwise complies with subsection (b)(7) of the Privacy Act.

4. The name and address of a veteran, which is relevant to a suspected violation or reasonably imminent violation of law concerning public health or safety, whether civil, criminal or regulatory in nature and whether arising by general or program statute or by regulation, rule or order issued pursuant thereto, may be disclosed to any foreign, State, or local governmental agency or instrumentality charged under applicable law with the protection of the public health or safety, if a qualified representative of such organization, agency or instrumentality has made a written request that such name and address be provided for a purpose authorized by law, and, if the information is sought for law enforcement investigation purposes, and the request otherwise complies with subsection (b)(7) of the Privacy Act.

5. The name and address of a veteran may be disclosed to any nonprofit organization if the release is directly connected with the conduct of programs and the utilization of benefits under title 38 (such disclosures include computerized lists of names and addresses).

6. Any information in this system, including name, address, Social Security number, VA file number, medical records, financial records, and field examination reports of a VA beneficiary, and the name, address, and information regarding the activities of a VA-appointed fiduciary or beneficiary may be disclosed at the request of a VA beneficiary or fiduciary to a Federal, State, or local agency in order for VA to obtain information relevant to a VA decision concerning the payment and usage of funds payable by VA on behalf of a beneficiary, or to enable VA to assist a beneficiary or VA-appointed fiduciary in obtaining the maximum amount of benefits for a VA beneficiary from a Federal, State, or local agency.

7. Any information in this system, including name, address, Social Security number, VA file number, medical records, financial records, and field examination reports of a VA beneficiary who is in receipt of VA and SSA benefits concurrently, and the name, address, and information regarding the activities of a VA-supervised fiduciary may be disclosed to a representative of the SSA to the extent necessary for the operation of a VA program, or to the extent needed as indicated by such representative.

8. The name and address of a VA beneficiary, the VA rating that indicates the beneficiary is unable to manage his or her financial affairs, and the field examination report upon which the rating was based may be disclosed to a Federal agency, upon its official request, in order for that agency to make decisions on such matters as competency and dependency in connection with eligibility for that agency's benefits. This information may also be disclosed to a State or local agency, upon its official request, in order for that agency to make decisions on such matters as competency and dependency in connection with eligibility for that agency's benefits, if the information pertains to a VA beneficiary who is not a veteran, or if the name and address of the veteran is provided beforehand.

9. Any information in this system, including medical records, financial records, field examination reports, correspondence and court documents may be disclosed in the course of presenting evidence to a court, magistrate or administrative tribunal in matters of guardianship, inquests and commitments, and to probation and parole officers in connection with court required duties.

10. Only so much information, including information in VA records obtained from the SSA, and the name and address of a VA beneficiary, fiduciary, or other person under investigation, as is necessary to obtain a coherent and informed response may be released to a third party who may have information bearing on an issue under VA investigation.

11. Any information in this system may be disclosed to a VA-appointed fiduciary in order for that fiduciary to perform his or her duties, provided this information will only be released when the disclosure is for the benefit of the beneficiary. Any information in this system may also be disclosed to a proposed fiduciary in order for the fiduciary to make an informed decision with regard to accepting fiduciary responsibility for a VA beneficiary.

12. Any information in this system, including medical records, correspondence records, financial records, field examination reports, and court documents may be disclosed to an attorney employed by the beneficiary, or to a spouse, relative, next friend, or to a guardian ad litem representing the interests of the beneficiary, provided the name and address of the beneficiary is given beforehand and the disclosure is for the benefit of the beneficiary, and the release is authorized by 38 U.S.C. 7332, if applicable. Records subject to 38 U.S.C. 7332 contain information on medical treatment for drug abuse, alcoholism, sickle cell anemia, and HIV.

13. Any information in this system may be disclosed to the Department of Justice and to U.S. Attorneys for litigation involving the United States and to Federal agencies upon their official request in connection with review of administrative tort claims filed under the Federal Tort Claims Act, 28 U.S.C. 2672, as well as other claims.

14. Any information in this system including available identifying information regarding the debtor, such as the name of the debtor, last known address of the debtor, name of debtor's spouse, Social Security number, VA insurance number, VA file number, place of birth and date of birth of debtor, name and address of debtor's employer or firm, and dates of employment may be disclosed to other Federal agencies, State probate courts, State driver's license bureaus, State automobile title and license bureaus, and the General Accounting Office in order to obtain current address, locator, and credit report assistance in the collection of unpaid financial obligations owed the United States. The purpose is consistent with the Federal Claims Collection Act of 1966 and 38 U.S.C. 5701(b)(6).

15. Any information in this system relating to the adjudication of a VA beneficiary's ability to manage his or her VA benefits, either by a court of competent jurisdiction or by VA, may be disclosed to a lender or prospective lender participating in the VA Loan Guaranty Program who is extending credit or proposing to extend credit on behalf of a veteran for VA to protect veterans in this category from entering into unsound financial transactions which might deplete the resources of the veteran and to protect the interest of the Government giving credit assistance to a veteran.

16. VA may disclose information from this system of records to the Department of Justice (DoJ), either on VA's initiative or in response to DoJ's request for the information, after either VA or DoJ determines that such information is relevant to DoJ's representation of the United States or any of its components in legal proceedings before a court or adjudicative body, provided that, in each case, the agency also determines prior to disclosure that release of the records to DoJ is a use of the information contained in the records that is compatible with the purpose for which VA collected the records. VA, on its own initiative, may disclose records in this system of records in legal proceedings before a court or administrative body after determining that the disclosure of records to the court or administrative body is a use of the information contained in the records that is compatible with the purpose for which VA collected the records.

17. Disclosure of relevant information may be made to individuals, organizations, public or private agencies, or other entities with whom VA has a contract or agreement or where there is a subcontract to perform such services as VA may deem practicable for the purposes of laws administered by VA, in order for the contractor or subcontractor to perform the services of the contract or agreement.

18. VA may disclose on its own initiative any information in this system, except the names and mailing addresses of veterans and their dependents, that is relevant to a suspected violation or reasonably imminent violation of law, whether civil, criminal, or regulatory in nature, and whether arising by general or program statute or by regulation, rule, or order issued pursuant thereto to a Federal, State, local, Tribal, or foreign agency charged with the responsibility of investigating or prosecuting such violation, or charged with enforcing or implementing the statute, regulation, rule, or order.

19. Disclosure to other Federal agencies may be made to assist such agencies in preventing and detecting possible fraud or abuse by individuals in their operations and programs.

20. VA may on its own initiative, disclose any information or records to appropriate agencies, entities, and persons when (1) VA suspects or has confirmed that the integrity or confidentiality of information in the system of records has been compromised; (2) VA has determined that as a result of the suspected or confirmed compromise, there is a risk of embarrassment or harm to the reputations of the record subjects, harm to the economic or property interests, identity theft or fraud, or harm to the programs (whether maintained by VA or another agency or entity) that rely upon the potentially compromised information; and (3) the disclosure is to agencies, entities, or persons whom VA determines are reasonably necessary to assist or carry out VA's efforts to respond to the suspected or confirmed compromise and prevent, minimize, or remedy such harm. This routine use permits disclosures by VA to respond to a suspected or confirmed data breach, including the conduct of any risk analysis or provision of credit protection services as provided in 38 U.S.C. 5724, as the terms are defined in 38 U.S.C. 5727.

21. The name and mailing address of a VA beneficiary, and other information as is reasonably necessary to identify such a beneficiary, who has been adjudicated as incapable of managing his or her financial affairs under 38 CFR 3.353, may be provided to the Attorney General of the United States or his/her designee, for use by DoJ in the National Instant Criminal Background Check System mandated by the Brady Handgun Violence Prevention Act, Public Law 103-59.

22. The name, mailing address, and any other information obtained by VA pertaining to the qualification of an individual seeking appointment as a VA fiduciary may be released to the beneficiary or his or her accredited representative or court-appointed guardian for the purpose of notifying the beneficiary of the reasons for selection or non-selection of the individual.

23. The name, mailing address, and any other information obtained by VA pertaining to the allegation, investigation, determination of misuse by a fiduciary, or determination of negligence on the part of VA may be released to the beneficiary or his or her accredited representative or court-appointed guardian for the purpose of notifying the beneficiary of the reasons for VA's decision regarding misuse.

POLICIES AND PRACTICES FOR STORING, RETRIEVING, ACCESSING, RETAINING, AND DISPOSING OF RECORDS IN THE SYSTEM:

STORAGE:

VA electronically maintains fiduciary program beneficiary and fiduciary information in electronic fiduciary folders in BFFS at the VA Data Processing Center in Austin, Texas. Non-fiduciary program investigations and related information are maintained on paper documents and stored at the fiduciary hubs and at VA Central Office.

Records (or information contained in records) are also maintained in electronic file folders (e.g., Virtual VA). Such information may be accessed through data telecommunication terminal systems designated for the Benefits Delivery Network (BDN), Virtual VA, and Veterans Service Network (VETSNET). BDN, Virtual VA, and VETSNET terminal locations include VA Central Office, regional offices, VA health care facilities, Veterans Integrated Service Networks, Department of Defense Finance and Accounting Service Centers, and the U.S. Coast Guard Pay and Personnel Center. Remote online access is also made available to authorized remote sites and claimants' representatives, to include VA-accredited representatives of VA-recognized veterans service organizations, and VA-accredited attorneys and claims agents. A VA claimant must execute a prior written consent or a power of attorney authorizing access to his or her claims records before VA will allow the representative to have access to the claimant's automated claims records. Representatives may use the access solely for the purpose of assisting an individual claimant whose records are accessed in a claim for benefits administered by VA. Information relating to receivable accounts owed to VA, designated the Centralized Accounts Receivable System (CARS), is maintained on magnetic tape, microfiche and microfilm. CARS is accessed through a data telecommunications terminal system at St. Paul, Minnesota.

RETRIEVABILITY:

Paper documents and automated storage media are indexed by name and file number of VA beneficiary or other individual.

SAFEGUARDS:

1. Historical individual case folder and computer lists are generally kept in steel cabinets when not in use. The cabinets are located in areas which are locked after work hours. Access to these records is restricted to authorized VA personnel on a “need to know” basis.

2. Access to the computer rooms within the regional office with jurisdiction over fiduciary hubs is generally limited by appropriate locking devices and restricted to authorized VA employees and vendor personnel. Automatic Data Processing peripheral devices are generally placed in secure areas (areas that are locked or have limited access) or are otherwise protected. Information in the BFFS may be accessed by authorized VA employees. Access to file information is controlled at two levels; the system recognizes authorized employees by a series of individually unique passwords/codes, and the employees are limited to only the information in the file which is needed in the performance of their official duties.

3. Access to the VA data processing center is generally restricted to center employees, custodial personnel, Federal Protective Service, and other security personnel. Access to the computer rooms is restricted to authorized operational personnel through electronic locking devices. All other persons gaining access to the computer rooms are escorted.

4. Access to records in VA Central Office is only authorized to VA personnel on a “need to know” basis. Records are maintained in manned rooms during working hours. During non-working hours, there is limited access to the building with visitor control by security personnel.

RETENTION AND DISPOSAL:

Paper documents received are scanned into VA's electronic document repository and subsequently destroyed after 90 days. Electronic records are not purged.

SYSTEM MANAGER(S) AND ADDRESS

Director, Pension and Fiduciary Service (21PF), VA Central Office, Washington, DC 20420.

NOTIFICATION PROCEDURE:

Any individual who wishes to determine whether a record is being maintained in this system under his or her name or other personal identifier, or wants to determine the content of such records, should submit a written request or apply in person to the nearest VA regional office or center. Addresses for VA regional offices and centers may be found in VA Appendix 1. All inquiries must reasonably identify the type of records involved, e.g., fiduciary file. Inquiries should include the individual's full name, VA file number, and return address. If a VA file number is not available, then as much of the following information as possible should be forwarded: Full name, branch of service, dates of service, service numbers, Social Security number, and date of birth.

RECORD ACCESS PROCEDURE:

Individuals seeking information regarding access to or contesting VA records in this system may write, call, or visit the nearest VA regional office or center.

CONTESTING RECORD PROCEDURE:

See records access procedures above.

RECORD SOURCE CATEGORIES:

VA beneficiary, VA beneficiary's dependents, VA-appointed fiduciaries, individuals who were previously VA-appointed fiduciaries, individuals who VA considered for service as a VA-appointed fiduciary but did not select, field examiners, legal instrument examiners, fiduciary program personnel, third parties, other Federal, State, and local agencies, and VA records.

Appendix 1: VA Regional Offices With Fiduciary Activity

Please send address and telephone number corrections to: Department of Veterans Affairs, Pension and Fiduciary Service (21PF), 810 Vermont Avenue NW., Washington, DC 20420.

Columbia Fiduciary Hub

Jurisdiction for Florida, Georgia, North Carolina, South Carolina

Office/Mail: 6437 Garners Ferry Road, Columbia, SC 29209

Phone: 1-888-407-0144; press #1

Indianapolis Fiduciary Hub

Jurisdiction for Asia, Australia, Canada, Connecticut, Delaware, Europe, Indiana, Maine, Maryland, Massachusetts, Michigan, New Hampshire, New Jersey, New York, Ohio, Pennsylvania, Rhode Island, Vermont

Office/Mail: 575 North Pennsylvania Street, Indianapolis, IN 46204

Phone: 1-888-407-0144; press #2

Lincoln Fiduciary Hub

Jurisdiction for Central America, Kansas, Mexico, Nebraska, North Dakota, Oklahoma, South America, South Dakota, Texas

Office: 3800 Village Drive, Lincoln, NE 68501

Mail: P.O. Box 5444, Lincoln, NE 68505

Phone: 1-888-407-0144; press #3

Louisville Fiduciary Hub

Jurisdiction for Alabama, Kentucky, Mississippi, Tennessee, Puerto Rico, Virginia, Washington, DC, West Virginia

Office: 321 West Main Street, Suite 390, Louisville, KY 40202

Mail: P.O. Box 3487, Louisville, KY 40201

Phone: 1-888-407-0144; press #4

Manila Regional Office

Jurisdiction for Philippines

Office: U.S. Embassy, 1501 Roxas Boulevard, Pasay City, Philippines, 1302

Mail: PSC 501, DPO AP 96515

Milwaukee Fiduciary Hub

Jurisdiction for Arkansas, Illinois, Iowa, Louisiana, Minnesota, Missouri, Wisconsin

Office: 5400 West National Avenue, Milwaukee, WI 53214

Mail: P.O. Box 14975, Milwaukee, WI 53214

Phone: 1-888-407-0144; press #5

Salt Lake City Fiduciary Hub

Jurisdiction for Alaska, Arizona, California, Colorado, Hawaii, Idaho, Montana, New Mexico, Nevada, Oregon, Utah, Washington, Wyoming

Office: 500 Foothill Drive, Salt Lake City, UT 84158

Mail: P.O. Box 58086, Salt Lake City, UT 84158

Phone: 1-888-407-0144; press #6

[FR Doc. 2014-16810 Filed 7-16-14; 8:45 am]

BILLING CODE 8320-01-P